DEPARTMENT OF LABOR

Employment and Training Administration

[TA-W-41,916]

Emess Design Group, LLC, Ellwood City, PA; Amended Certification Regarding Eligibility To Apply for Worker Adjustment Assistance

In accordance with section 223 of the Trade Act of 1974 (19 U.S.C. 2273) the Department of Labor issued a Certification of Eligibility to Apply for Worker Adjustment Assistance on December 2, 2002, applicable to workers of Emess Design Group, LLC, located in Ellwood City, Pennsylvania. The notice was published in the Federal Register on December 23, 2002 (67 FR 78256).

At the request of the company, the Department reviewed the certification for workers of the subject firm. The workers produce lamps and lamp products. Information provided by company shows that on April 12, 2002, Emess Design Group, LLC, purchased the assets of another company.

Since the Emess Design Group, LLC did not exist prior to April 12, 2002, the Department is changing the impact date from July 15, 2001 to April 12, 2002.

The amended notice applicable to TA-W-41,916 is hereby issued as follows:

All workers of Emess Design Group, LLC, Ellwood City, Pennsylvania, who became totally or partially separated from employment on or after April 12, 2002 through December 2, 2004, are eligible to apply for adjustment assistance under Section 223 of the Trade Act of 1974.

Signed in Washington, DC, this 14th day of March 2003.
Richard Church,
Certifying Officer, Division of Trade Adjustment Assistance.

[FR Doc. 03-8848 Filed 4-9-03; 8:45 am]

BILLING CODE 4510-30-P